DEPARTMENT OF TRANSPORTATION

Federal Motor Carrier Safety Administration

49 CFR Parts 385, 386, 390, and 395

[Docket No. FMCSA-2004-19608]

RIN 2126-AB26

Hours of Service of Drivers

AGENCY: Federal Motor Carrier Safety Administration (FMCSA), DOT.

ACTION: Notice; availability of supplemental documents; reopening of comment period.

SUMMARY: FMCSA has placed four additional documents in the public docket of its recent notice of proposed rulemaking (NPRM) concerning hours of service (HOS) for commercial motor vehicle drivers. The Agency is reopening the comment period on the NPRM to allow for review and discussion of these documents and FMCSA's possible consideration of their findings in the development of the final rule. Comments will only be considered on the four documents listed below.

DATES: Comments are due by June 8, 2011.

ADDRESSES: You may submit comments identified by Federal Docket Management System Number FMCSA-2011-0039 using any of the following methods:

• Federal eRulemaking Portal: Go to http://www.regulations.gov.

• Fax: 202-493-2251.

• Mail: Docket Management Facility (M-30), U.S. Department of Transportation, West Building Ground Floor, Room W12-140, 1200 New Jersey Avenue, SE., Washington, DC 20590-0001.

• Hand Delivery: West Building Ground Floor, Room W12-140, 1200 New Jersey Avenue, SE., Washington, DC 20590-0001, between 9 a.m. and 5 p.m., e.t., Monday through Friday, except Federal holidays. The telephone number is 202-366-9329.

Instructions: All submissions must include the Agency name and docket number (FMCSA-2011-0039) for this rulemaking. To avoid duplication, please use only one of these four methods. Note that all comments received will be posted without change to http://www.regulations.gov, including any personal information provided. Please refer to the Privacy Act heading for further information.

Comments received after the comment closing date will be included in the docket and we will consider late comments only to the extent practicable. FMCSA may issue a final rule at any time after the close of the comment period.

Docket: For access to the docket to read background documents or comments received, go to http://www.regulations.gov at any time or to West Building Ground Floor, Room W12-140, 1200 New Jersey Avenue, SE., Washington, DC, between 9 a.m. and 5 p.m., e.t., Monday through Friday, except Federal holidays.

Privacy Act: Anyone is able to search the electronic form for all comments received into any of our dockets by the name of the individual submitting the comment (or signing the comment, if submitted on behalf of an association, business, labor union, etc.). You may review the U.S. Department of Transportation's (DOT) complete Privacy Act Statement in the Federal Register published on January 17, 2008 (73 FR 3316), or you may visit http://edocket.access.gpo.gov/2008/pdf/E8-785.pdf.

FOR FURTHER INFORMATION CONTACT: Mr. Thomas Yager, Chief, Driver and Carrier Operations Division, Federal Motor Carrier Safety Administration, U.S. Department of Transportation, 1200 New Jersey Avenue, SE., Washington, DC 20590, (202) 366-4325.

SUPPLEMENTARY INFORMATION:

Availability of Supplemental Documents

For a full background on this rulemaking, please see the preamble to the NPRM (75 FR 82170, December 29, 2010). The docket (FMCSA-2004-19608) contains all of the background information for this rulemaking, including comments. FMCSA has placed these four research reports in the docket:

• Blanco, M., Hanowski, R., Olson, R., Morgan, J., Soccolich, S., Wu, S.C., and Guo, F., “The Impact of Driving, Non-Driving Work, and Rest Breaks on Driving Performance in Commercial Motor Vehicle Operations,” FMCSA, April 2011.

• Jovanis, J.P., Wu, K.F., and Chen, C., “Hours of Service and Driver Fatigue—Driver Characteristics Research,” FMCSA, April 2011.

• Sando, T., Angel, M., Mtoi, E., and Moses, R., “Analysis of the Relationship Between Operator Cumulative Driving Hours and Involvement in Preventable Collisions,” Transportation Research Board of the National Academies' 2011 90th Annual Meeting, Paper No.: 11-4165, November 2010.

• Sando, T., Mtoi, E., and Moses, R., “Potential Causes Of Driver Fatigue: A Study On Transit Bus Operators In Florida,” Transportation Research Board of the National Academies' 2011 90th Annual Meeting, Paper No.: 11-3398, November 2010.

The two Sando, et al., reports discuss research similar to that which the Florida Department of Transportation Transit Office submitted to the docket on March 4, 2011 (docket item 23834: Sando, T., Moses, R., Angel, M., and Mtoi, E., “Safety Implications of Transit Operator Schedule Policies,” University of North Florida and Florida Department of Transportation, October 2010). The two additional reports by Sando and his colleagues were published by the Transportation Research Board of the National Academies for its 2011 90th Annual Meeting. They were provided to 2011 Annual Meeting participants on digital video disk and are available for downloading at http://www.trb.org.

FMCSA may consider these four reports in its rulemaking and invites comment on their relevance to the NPRM.

FMCSA is reopening the comment period only for comments on these documents and their relationship to the proposed HOS regulations. Comments unrelated to the studies and/or to their relationship to the NPRM will not be evaluated.

Rulemaking Schedule

FMCSA advises the public of an adjustment to the rulemaking schedule agreed to in litigation before the U.S. Court of Appeals for the District of Columbia Circuit (Case No. 09-1094). Pursuant to an October 26, 2009, agreement between Public Citizen, et al. (Petitioners), and FMCSA, the Agency was to publish a final rule within 21 months of

the date of the settlement agreement. FMCSA will receive and analyze all comments to this notice before it completes its work on a final rule, however. This extra comment period will require additional time that was not envisioned in 2009, and thus the Agency will be unable to publish a final rule by July 26, 2011. FMCSA has advised Petitioners of this delay to the rulemaking schedule.

Issued on: May 3, 2011.
Anne S. Ferro,
Administrator.

[FR Doc. 2011-11150 Filed 5-6-11; 8:45 am]

BILLING CODE 4910-EX-P